DEPARTMENT OF AGRICULTURE

Forest Service

Site-Specific Invasive Plant Treatment Project—Olympic National Forest, Washington

AGENCY: Forest Service, USDA.

ACTION: Notice of intent to prepare an environmental impact statement.

SUMMARY: The USDA Forest Service will prepare an Environmental Impact Statement (EIS) to document and disclose the potential environmental effects of proposed invasive plant treatments. The Proposed Action is to apply a combination of herbicide, mechanical and manual treatments to control known invasive plants within approximately 3,830 acres in 99 treatment areas on the Olympic National Forest in Washington. The Proposed Action would also establish criteria for responding to infestations that cannot be predicted.

This notice revises the Notice of Intent to prepare an EIS announced in the Federal Register on February 23, 2004. Four national forests were combined for analysis in the 2004 NOI. Currently, the Forest Service intends to prepare three separate site-specific statements: one for the Olympic National Forest, one for the Gifford-Pinchot National Forest and the northern portion of the Columbia River Gorge National Scenic Area in Washington, and one for the Mount Hood National Forest and the southern portion of the Columbia River Gorge National Scenic Area in Oregon. The project has been refined partly in response to comments received during the initial scoping period.

DATES: Written comments concerning the scope of this analysis should be received by September 15, 2005 if possible to ensure they are fully incorporated into the Draft EIS.

ADDRESSES: Submit comments to Doug Jones, Mt. Hood National Forest, 6780 Hwy. 35, Mt. Hood, OR 97041. Electronic comments can be submitted to comments-pacificnorthwest-mthood-hoodriver@fs.fed.us.

FOR FURTHER INFORMATION CONTACT: Doug Jones, 541.352.6002 or dgjones@fs.fed.us.

SUPPLEMENTARY INFORMATION:

Need for the Proposal

Invasive plants are compromising the ability for the Forest Service to manage for healthy native ecosystems. Invasive plants create a host of environmental and other effects, most of which are harmful to native ecosystem processes, including: displacement of native plants; reduction in functionality of habitat and forage for wildlife and livestock; loss of threatened, endangered, and sensitive species; increased soil erosion and reduced water quality; alteration of physical and biological properties of soil, including reduced soil productivity; changes to the intensity and frequency of fires; high cost (dollars spent) of controlling invasive plants; and loss of recreational opportunities.

Approximately 3,830 acres of invasive, non-native plants on the Olympic National Forest are proposed for treatment. These infestations have a high potential to expand and further degrade the National Forest and other lands. Infested areas represent potential seed sources for further invasion into neighboring ownerships.

There is an underlying need on for timely suppression, containment, control, and/or eradication of invasive plants on the Olympic National Forest so that desired environmental and social conditions (healthy native plant populations and little spread to neighboring lands) may be achieved. These control objective terms are based on the Final Environmental Impact Statement, Pacific Northwest Region—Preventing and Managing Invasive Plants: Eradication: Elimination of an invasive plant species from an area. Control: Infestation size reduced over time; some level of infestation may be acceptable. Containment: Spread of the weed prevented beyond the perimeter of patches or infestation areas mapped from current inventories. Suppression: Invasive plant seed production prevented throughout the target patch; invasive species does not dominate the vegetation of the area; low levels may be acceptable. Without action, invasive plant populations will continue to have adverse effects on national forest system and adjacent lands.

Proposed Action

The Proposed Action for this project is to apply site-specific treatment prescriptions that are based on the desired condition and control objective of each treatment area, the biology of particular invasive plant species, its proximity to water and other sensitive resources, and size of the infestation. Prevention of invasive plant infestations remains a key part of the program and is addressed in the Regional EIS.

Initial treatment estimates include about 2,130 acres of herbicide combined with manual treatment and about 1,700 acres of herbicide treatment combined with manual and mechanical treatment (including 7 acres where controlled burning may also be prescribed).

Treatments may be repeated over several years until suppression, containment, control, and/or eradication objectives are met. Infested areas would be treated with an initial prescription, and retreated in subsequent years, depending on the results. Treatments would be adapted to site conditions that change over time. The proportion of specific treatment methods would be expected to change overtime. Herbicide treatments are part of the initial prescription for most sites; however, use of herbicides would be expected to decline in subsequent entries. Revegetation may also be needed to reduce conditions that are prone to re-infestation. Treatment areas would be monitored to adjust the site-specific prescription and determine whether active revegetation will be needed.

In addition, the Proposed Action would establish a set of project design features for treating future invasive plant infestations. The features are intended to ensure that effects of treating currently unknown plant invasions are within the scope of this EIS decision. Treatment acreage thresholds will be established in 6th field watersheds as needed, based on the severity, intensity and extent of potential adverse effects.

A site-specific, non-significant Forest Plan amendment is also proposed for the Olympic National Forest. Currently, there is a standard in the National Forest Plan that states that herbicide use will be discouraged in riparian areas. However, some invasive plant species (notably knotweed) grow in riparian areas, and herbicides are the most effective and cost-efficient treatment. The Proposed Action would change the standard to allow for riparian treatments with herbicides, as long as all other applicable environmental standards are met.

Maps of the proposed treatment sites are posted on the website mentioned below. Additional information on the proposal are available by contacting Doug Jones.

Previous Scoping

Comments submitted during the scoping conducted for the “Invasive Plant Treatment Project—Olympic, Gifford Pinchot, and Mt. Hood Nationals Forests and Columbia River Gorge National Scenic Area; Oregon and Washington” from February 23 to April 5, 2004 will be retained and considered in the development of this EIS. If you have additional comments on the revised proposed action, these will be considered in conjunction with the previous comments. Issues identified from the previous scoping effort are outlined below.

The Forest Service is currently seeking any additional information, comments, and assistance from Federal, State and local agencies, tribes, and other individuals or organizations that may be interested in or affected by this proposed action. Written comments are due September 15. Comments should be specific to the Proposed Action and clearly describe any issues the commenter has with the proposal. Issues will be addressed in the Draft EIS.

In addition to submitting written comments, the public may visit Forest Service officials at any time during the analysis and prior to the decision. A Web site has also been established to disseminate project information: http://www.fs.fed.us/r6/invasiveplant-eis/multiforest-sitespecific-information.htm.

Issues Identified From Previous Scoping

The potential for impacts/effects as a result of the establishment and spread of invasive plants and the potential for impacts/effects as a result of treatment actions designed to manage invasive plants are both important considerations that need to be addressed in the analysis. The following issues were identified during the initial scoping process:

• Human Health—Invasive plant treatments may result in health risks to forestry workers and the public, including contamination of drinking water and forest products. Mitigation and protection measures should be evaluated to ensure they protect human health. Public notification measures should be evaluated to ensure that human exposure to herbicide is limited.

• Treatment Effectiveness—Invasive plant treatments can vary in effectiveness. The presence and spread of invasive plants within National Forest System lands may affect the presence and spread of invasive plants on neighboring ownerships. Treatments should be evaluated based on how likely they are to reach desired conditions in the foreseeable future.

• Social and Economic—Invasive plant treatments vary in cost and affect the acreage that can be effectively treated each year given a set budget. Manual treatment methods may cost more per acre, but provide more employment.

• Non-Target Plants and Animals—Impacts to non-target plant and animal species vary by invasive plant treatments. Mitigation and protection measures should be evaluated to ensure they protect plant and animal species (including culturally important plants) from adverse effects.

• Soils, Water Quality and Aquatic Biota—Soil and ground disturbing impacts, effects to aquatic organisms, and water quality impacts vary by invasive plant treatments. Mitigation and protection measures should be evaluated to ensure they protect soil, water quality and aquatic biota from adverse effects.

Alternatives To Be Considered

The No Action alternative will serve as a baseline for comparison of alternatives. Under the No Action alternative, the Olympic National Forest would continue to treat invasive plant species as authorized under existing National Environmental Policy Act (NEPA) documents. The Olympic National Forest would continue to have a standard that discourages herbicide use in riparian areas; however, an existing Environmental Assessment and Decision Notice have authorized herbicide treatments at several knotweed sites in riparian areas.

Additional action alternatives may be developed as the analysis proceeds and if substantive new comments or information is received.

Alternative Evaluation Criteria

The alternatives will be evaluated based on how effectively they treat known sites and respond to new infestations, their monetary cost, and their potential risks to human health and the environment.

Estimated Dates for Draft and Final EIS

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes, at this early stage, it is important to give reviewers notice of several court rulings related to public participation in the environmental review process. First, reviewers of the draft EIS must structure their participation in the environmental review of the proposal so that it is meaningful and alerts an agency to the reviewer's position and contentions. Vermont Yankee Nuclear Power Corp. v. NRDC. 435 U.S. 519, 553 (1978). Also, environmental objectives that could be raised at the draft EIS stage but that are not raised until after the completion of the final EIS may be waived or dismissed by the courts. City of Angoon v. Hodel, 803 F. 2d 1016, 1022 (9th Cir. 1986) and Wisconsin Heritage, Inc. v. Harris, 490 F. Supp. 1334 (E.D. Wis. 1980). Because of these court rulings, it is very important that those interested in this proposed action participate by the close of the 45-day comment period; so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or the merits of the alternatives formulated and discussed in the statement. Reviewers may wish to refer to the Council on Environmental Quality Regulations for implementing the procedural provision of the National Environmental Policy Act (40 CFR 1503.3).

The Draft EIS is expected to be filed with the Environmental Protection Agency (EPA) and to be available for public comment by March 2006. The comment period on the draft EIS will be 45 days from the date the EPA publishes the notice of availability in the Federal Register.

Comments on the draft EIS will be analyzed, considered, and responded to by the Forest Service in preparing the final EIS. The final EIS is scheduled to be completed in Summer 2006. The Responsible Official (R.O.) is Dale Hom, Olympic National Forest Supervisor. The R.O. will consider comments, responses, environmental consequences discussed in the final EIS, and applicable laws, regulations, and policies in making a decision regarding this proposed action. The responsible officials will document the decision and rationale for the decision in the Record of Decision. It will be subject to Forest Service Appeal Regulations (36 CFR part 215).

Dated: August 17, 2005.
Virginia Grilley,
Acting Forest Supervisor, Olympic National Forest.

[FR Doc. 05-16897 Filed 8-24-05; 8:45 am]

BILLING CODE 3410-11-M